UNIFIED CARRIER REGISTRATION PLAN

Sunshine Act; Meeting

TIME AND DATE: September 13, 2022, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 987 2483 0316, to listen and participate in this meeting. The website to participate via Zoom Meeting and Screenshare is https://kellen.zoom.us/meeting/register/tJwqde2grTspG9LUvr49_ACw9PebLM18Twrw.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—UCR Finance Subcommittee Chair

The UCR Finance Subcommittee Chair will welcome attendees, call the meeting to order, call roll for the Finance Subcommittee, confirm whether a quorum is present, and facilitate self-introductions.

II. Verification of Meeting Notice—UCR Executive Director

The UCR Executive Director will verify the publication of the meeting notice on the UCR website and distribution to the UCR contact list via email followed by the subsequent publication of the notice in the Federal Register.

III. Review and Approval of Finance Subcommittee Agenda and Setting of Ground Rules—UCR Finance Subcommittee Chair

For Discussion and Possible Subcommittee Action

The agenda will be reviewed and the UCR Finance Subcommittee will consider adoption.

Ground Rules

➢ Subcommittee action only to be taken in designated areas on the agenda.

IV. Review and Approval of Minutes From the July 19, 2022 Meeting—UCR Finance Subcommittee Chair

For Discussion and Possible Subcommittee Action

Draft minutes from the July 19, 2022 UCR Finance Subcommittee meeting conducted in San Diego, CA will be reviewed. The UCR Finance Subcommittee will consider action to approve.

V. Review 2024 and 2025 Fee Recommendation Approved by the UCR Board of Directors—UCR Finance Subcommittee Chair and UCR Depository Manager

The UCR Finance Subcommittee Chair and UCR Depository Manager will update the UCR Finance Subcommittee regarding the 2024 and 2025 fee change recommendation that was authorized on August 11, 2022 by the UCR Board of Directors.

VI. Development of Active Cash Management System—UCR Finance Subcommittee Chair and UCR Depository Manager

The UCR Finance Subcommittee Chair and UCR Depository Manager will lead a discussion on developing a policy that will result in an enhanced cash management and investment strategy designed to increase the interest income that is earned on both administrative reserve funds and excess fees held in the UCR Depository.

VII. Maturing Certificate of Deposit on November 12, 2022—UCR Finance Subcommittee Chair and UCR Depository Manager

For Discussion and Possible Subcommittee Action

The UCR Finance Subcommittee Chair and the UCR Depository Manager will discuss the status of a certificate of deposit held at the Bank of North Dakota in the amount of $2,650,000.00 that will mature on November 12, 2022. The UCR Finance Subcommittee may take action to recommend to the UCR Board of Directors an appropriate re-investment of such funds.

VIII. Investment of Excess Fees Held by the Depository—UCR Finance Subcommittee Chair and UCR Depository Manager

For Discussion and Possible Subcommittee Action

The UCR Finance Subcommittee Chair and the UCR Depository Manager will discuss the status of excess fees held by the UCR Depository and potential investment opportunities for the Finance Subcommittee's consideration. The UCR Finance Subcommittee may take action to recommend to the UCR Board of Directors an appropriate investment of the excess fees.

IX. Transactional Authorizations at the Bank of North Dakota—UCR Finance Subcommittee Chair

For Discussion and Possible Subcommittee Action

The Bank of North Dakota, a long-time partner with UCR, is requiring renewed authorizations to transact banking matters. A discussion will be led by the UCR Finance Subcommittee Chair to direct appropriate authority for transacting business. The Finance Subcommittee may take action to recommend to the UCR Board of Directors appropriate signatories (Board Members, Subcommittee Members and/or the UCR Executive Director) to authorize banking transactions.

X. Review of 2022 Administrative Expenses—UCR Depository Manager

The UCR Depository Manager will review the expenditures of the UCR Plan for the first 8 months ended August 31, 2022 with the Finance Subcommittee. A forecast for the remainder of 2022 and consequently the full-year will also be presented.

XI. Preview of the 2023 Administrative Expense Budget—UCR Depository Manager

The UCR Depository Manager will provide a preview of the 2023 administrative expense budget to the Finance Subcommittee.

XII. Finance Subcommittee Meetings in 2023—UCR Finance Subcommittee Chair and UCR Executive Director

The UCR Finance Subcommittee Chair and UCR Executive Director will discuss tentative plans for Finance Subcommittee meetings virtually and in-person during calendar year 2023.

XIII. Other Business—UCR Finance Subcommittee Chair

The UCR Finance Subcommittee Chair will call for any other items Finance Subcommittee members would like to discuss.

XIV. Adjourn—UCR Finance Subcommittee Chair

The UCR Finance Subcommittee Chair will adjourn the meeting.

The agenda will be available no later than 5:00 p.m. Eastern time, September 2, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-19249 Filed 9-1-22; 11:15 am]

BILLING CODE 4910-YL-P